DEPARTMENT OF HEALTH AND HUMAN SERVICES

Renewal of Charter for the Chronic Fatigue Syndrome Advisory Committee

AGENCY: Department of Health and Human Services, Office of the Secretary, Office of Public Health and Science.

ACTION: Notice.

SUMMARY: As stipulated by the Federal Advisory Committee Act, as amended (5 U.S.C. Appendix 2), the U.S. Department of Health and Human Services is hereby announcing renewal of the charter for the Chronic Fatigue Syndrome Advisory Committee (CFSAC).

FOR FURTHER INFORMATION CONTACT: Dr. Anand K. Parekh, Executive Secretary, Chronic Fatigue Syndrome Advisory Committee, Department of Health and Human Services, 200 Independence Avenue, SW., Room 727H, Washington, DC 20201; (202) 401-7605.

SUPPLEMENTARY INFORMATION: CFSAC was established on September 5, 2002. The Committee was established to advise, consult with, and make recommendations to the Secretary, through the Assistant Secretary for Health, on a broad range of topics including (1) The current state of knowledge and research about the epidemiology and risk factors relating to chronic fatigue syndrome, and identifying potential opportunities in these areas; (2) current and proposed diagnosis and treatment methods for chronic fatigue syndrome; and (3) development and implementation of programs to inform the public, health care professionals, and the biomedical, academic, and research communities about chronic fatigue syndrome advances.

Since CFSAC was established, renewal of the Committee charter has been carried out at the appropriate intervals as stipulated by FACA. The previous Committee charter was scheduled to expire on September 5, 2008. On August 27, 2008, the Secretary of Health and Human Services approved for the Committee charter to be renewed. Renewal of the CFSAC charter provides authorization for the Committee to operate until September 5, 2010. A copy of the Committee charter is available on the CFSAC Web site at http://www.hhs.gov/advcomcfs. A copy of the Committee charter also can be obtained by accessing the FACA database that is maintained by the Committee Management Secretariat under the General Services Administration. The Web site address for the FACA database is http://fido.gov/facadatabase.

Dated: September 10, 2008.
Anand K. Parekh,
Executive Secretary, Chronic Fatigue Syndrome Advisory Committee.

[FR Doc. E8-21516 Filed 9-15-08; 8:45 am]

BILLING CODE 4150-42-P